FEDERAL ELECTION COMMISSION

Sunshine Act Meetings

FEDERAL REGISTER CITATION NOTICE OF PREVIOUS ANNOUNCEMENT: 88 FR 67289.

PREVIOUSLY ANNOUNCED TIME AND DATE OF THE MEETING: Thursday, October 5, 2023 at 10:30 a.m.

CHANGE IN THE MEETING: The October 5, 2023 Open Meeting has been canceled.

CONTACT PERSON FOR MORE INFORMATION: Judith Ingram, Press Officer, Telephone: (202) 694-1220

(Authority: Government in the Sunshine Act, 5 U.S.C. 552b)

Vicktoria J. Allen,
Deputy Secretary of the Commission.

[FR Doc. 2023-22405 Filed 10-4-23; 4:15 pm]

BILLING CODE 6715-01-P